DEPARTMENT OF ENERGY

Federal Energy Regulatory Commission

Combined Notice of Filings #1

Take notice that the Commission received the following electric corporate filings:

Docket Numbers: EC13-132-000.

Applicants: Saja Energy LLC.

Description: Application for Authorization under Section 203 of the Federal Power Act of Saja Energy LLC.

Filed Date: 7/24/13.

Accession Number: 20130724-5109.

Comments Due: 5 p.m. ET 8/14/13.

Take notice that the Commission received the following electric rate filings:

Docket Numbers: ER12-1436-005; ER13-1793-002; ER10-3300-005 ER10-3099-006; ER12-1260-004; ER10-2329-002.

Applicants: Eagle Point Power Generation LLC, Hazle Spindle, LLC, La Paloma Generating Company, LLC, RC Cape May Holdings, LLC, Stephentown Spindle, LLC, Vineland Energy LLC.

Description: Notice of Change in Status of the Rockland Sellers.

Filed Date: 7/24/13.

Accession Number: 20130724-5115.

Comments Due: 5 p.m. ET 8/14/13.

Docket Numbers: ER13-692-005.

Applicants: Midcontinent Independent System Operator, Inc.

Description: 07-24-2013 Errata OASIS Compliance Filing to be effective 4/15/2013.

Filed Date: 7/24/13.

Accession Number: 20130724-5056.

Comments Due: 5 p.m. ET 8/14/13.

Docket Numbers: ER13-1318-001.

Applicants: Public Service Company of New Mexico.

Description: WestConnect Regional Transmission Service Tariff to be effective 7/1/2013.

Filed Date: 7/24/13.

Accession Number: 20130724-5104.

Comments Due: 5 p.m. ET 8/14/13.

Docket Numbers: ER13-1437-000.

Applicants: Southern California Edison Company.

Description: Refund Report—Coram SGIA and Distribution Service Agmt to be effective N/A.

Filed Date: 7/24/13.

Accession Number: 20130724-5055.

Comments Due: 5 p.m. ET 8/14/13.

Docket Numbers: ER13-1816-000.

Applicants: Sustaining Power Solutions LLC.

Description: Supplement to June 27, 2013 Sustaining Power Solutions LLC's MBR Application.

Filed Date: 7/24/13.

Accession Number: 20130724-5129.

Comments Due: 5 p.m. ET 8/14/13.

Docket Numbers: ER13-2016-000.

Applicants: New York Independent System Operator, Inc.

Description: Request for Temporary, Limited Waiver of New York Independent System Operator, Inc.

Filed Date: 7/23/13.

Accession Number: 20130723-5146.

Comments Due: 5 p.m. ET 8/2/13.

Docket Numbers: ER13-2019-000.

Applicants: Wisconsin Electric Power Company.

Description: FERC Electric Rate Schedule No. 132, Blackstart Resource Service to be effective 1/1/2015.

Filed Date: 7/24/13.

Accession Number: 20130724-5071.

Comments Due: 5 p.m. ET 8/14/13.

Docket Numbers: ER13-2020-000.

Applicants: Solar Partners II, LLC.

Description: Application for Market-Based Rate Authority to be effective 8/12/2013.

Filed Date: 7/24/13.

Accession Number: 20130724-5086.

Comments Due: 5 p.m. ET 8/5/13.

Docket Numbers: ER13-2021-000.

Applicants: Public Service Company of New Mexico.

Description: Rate Schedule 169—WestConnect Participation Agreement to be effective 7/1/2013.

Filed Date: 7/24/13.

Accession Number: 20130724-5100.

Comments Due: 5 p.m. ET 8/14/13.

Docket Numbers: ER13-2022-000.

Applicants: Pacific Gas and Electric Company.

Description: Transmission Owner Rate Case 2014 (TO15) to be effective 10/1/2013.

Filed Date: 7/24/13.

Accession Number: 20130724-5102.

Comments Due: 5 p.m. ET 8/14/13.

Docket Numbers: ER13-2023-000.

Applicants: Catalina Solar, LLC.

Description: Catalina Solar LLC Cancellation of RS 2, Concurrence to Pacific Wind Lessee SFA to be effective 12/31/9998.

Filed Date: 7/24/13.

Accession Number: 20130724-5105.

Comments Due: 5 p.m. ET 8/14/13.

Docket Numbers: ER13-2024-000.

Applicants: Catalina Solar Lessee, LLC.

Description: Catalina Solar Lessee Concurrence to Shared Transmission Facilities Ag—Clone to be effective 12/31/9998.

Filed Date: 7/25/13.

Accession Number: 20130725-5000.

Comments Due: 5 p.m. ET 8/15/13.

Take notice that the Commission received the following foreign utility company status filings:

Docket Numbers: FC13-11-000.

Applicants: Fortis Generation East Limited Partnership.

Description: FUCO Self-Certification of Fortis Generation East Limited Partnership, by its general partner Fortis Generation East GP Inc.

Filed Date: 7/24/13.

Accession Number: 20130724-5064.

Comments Due: 5 p.m. ET 8/14/13.

Docket Numbers: FC13-12-000.

Applicants: FortisTCI Limited, Turks and Caicos Utilities Limited.

Description: FUCO Self-Certification of FortisTCI Limited and Turks and Caicos Utilities Limited.

Filed Date: 7/24/13.

Accession Number: 20130724-5065.

Comments Due: 5 p.m. ET 8/14/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 25, 2013.
Nathaniel J. Davis, Sr.,
Deputy Secretary.

[FR Doc. 2013-18661 Filed 8-1-13; 8:45 am]

BILLING CODE 6717-01-P